DEPARTMENT OF VETERANS AFFAIRS

[OMB Control No. 2900-0648]

Agency Information Collection (Foreign Medical Program Application and Claim Cover Sheet)

AGENCY: Department of Veterans Affairs.

ACTION: Notice; correction.

SUMMARY: The Department of Veterans Affairs (VA) published a collection of information notice in a Federal Register on August 14, 2015. The 30-day Federal Register Notice published 11 days after the 60-day Federal Register Notice published. This document corrects the errors by resubmitting a new 30-day Federal Register Notice.

FOR FURTHER INFORMATION CONTACT: Brian McCarthy at (202) 461-6345.

Correction

DEPARTMENT OF VETERANS AFFAIRS

Billing Code 8320-01

[OMB Control No. 2900-0648]

Agency Information Collection (Foreign Medical Program Application and Claim Cover Sheet) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before January 11, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0648” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0648 (Foreign Medical Program Application and Claim Cover Sheet)” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

SUPPLEMENTARY INFORMATION: Titles:

1. Foreign Medical Program (FMP) Registration Form.

2. Claim Cover Sheet—Foreign Medical Program (FMP).

OMB Control Number: 2900-0648.

Type of Review: Revision of a currently approved collection.

Abstracts: This information collection is needed to carry out the health care benefits allowed by the Foreign Medical Program (FMP). It is a federal health benefits program for Veterans administered by the Department of Veterans Affairs (VA) Veterans Health Administration (VHA). FMP is a Fee for Service (indemnity plan) program. FMP provides reimbursement for VA adjudicated service-connected conditions. Title 38 CFR 17.35 states that the VA will provide coverage for the Veteran's service-connected disability when the Veteran is residing or traveling overseas.

VA Form 10-7959f-1, Foreign Medical Program (FMP) Registration Form, is used to register into the Foreign Medical Program those Veterans with service-connected disabilities that are living or traveling overseas. Title 38 CFR 17.125(d) states that requests for consideration of claim reimbursement from approved health care providers and Veterans are to be mailed to VHA Health Administration Center (HAC). The VA Form 10-7959f-2, Claim Cover Sheet—Foreign Medical Program streamlines the claims submission process for claimants or physicians while also reducing the time spent by VA on processing FMP claims. The cover sheet will allow foreign providers/Veterans with a better understanding of basic information required for the processing and payment of claims.

An agency may not conduct or sponsor, and a person is not required to respond to a collection of information unless it displays a currently valid OMB control number. The Federal Register Notice with a 60-day comment period soliciting comments on this collection of information was published at 80 FR 46104 on August 3, 2015.

Affected Public: Individuals or households.

Estimated Annual Burden:

a. Foreign Medical Program (FMP) Registration Form—fill, VA Form 10-7959f-1—111 hours.

b. Claim Cover Sheet—Foreign Medical Program (FMP)—fill, VA Form 10-7959f-2—3,652 hours.

Estimated Average Burden per Respondent:

a. Foreign Medical Program (FMP) Registration Form—fill, VA Form 10-7959f-1—4 minutes.

b. Claim Cover Sheet—Foreign Medical Program (FMP)—fill, VA Form 10-7959f-2—11 minutes.

Frequency of Response:

a. Foreign Medical Program (FMP) Registration Form—fill, VA Form 10-7959f-1—Annually.

b. Claim Cover Sheet—Foreign Medical Program (FMP)—fill, VA Form 10-7959f-2—12 times a year.

Estimated Annual Responses:

a. Foreign Medical Program (FMP) Registration Form—fill, VA Form 10-7959f-1—1,660.

b. Claim Cover Sheet—Foreign Medical Program (FMP)—fill, VA Form 10-7959f-2—19,920.

By direction of the Secretary.
Kathleen M. Manwell,
Program Analyst, VA Privacy Service, Office of Privacy and Records Management, Department of Veterans Affairs.

[FR Doc. 2015-31235 Filed 12-10-15; 8:45 am]

BILLING CODE 8320-01-P